DEPARTMENT OF COMMERCE

National Oceanic and Atmospheric Administration

[I.D. 021303B]

Marine Mammals; File No. 782-1694-00

AGENCY: National Marine Fisheries Service (NMFS), National Oceanic and Atmospheric Administration (NOAA), Commerce.

ACTION: Issuance of permit.

SUMMARY: Notice is hereby given that National Marine Mammal Laboratory, Alaska Fisheries Science Center, National Marine Fisheries Service, 7600 Sand Point Way NE, Bin C15700, Seattle, Washington 98115-0070, [Principal Investigator: Dr. Sue Moore, Director], has been issued a permit to collect, import/export species from marine mammals for purposes of scientific research.

ADDRESSES: The permit and related documents are available for review upon written request or by appointment (see SUPPLEMENTARY INFORMATION).

FOR FURTHER INFORMATION CONTACT: Ruth Johnson or Amy Sloan (301)713-2289.

SUPPLEMENTARY INFORMATION: On October 10, 2002, notice was published in the Federal Register (67 FR 63079) that a request for a scientific research permit to take to take an unlimited number of specimens from species of the Orders Cetacea and Pinnipedia had been submitted by the above-named organization. The requested permit has been issued under the authority of the Marine Mammal Protection Act of 1972, as amended (16 U.S.C. 1361 et seq.), the Regulations Governing the Taking and Importing of Marine Mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The Permit authorizes the Holder to collect, acquire, analyze, archive, import/export, re-import, and re-export (worldwide), unlimited numbers and kinds of specimens from dead marine mammal and endangered or threatened species of the Orders Cetacea and Pinnipedia for research purposes.

Issuance of this permit, as required by the ESA, was based on a finding that such permit (1) was applied for in good faith, (2) will not operate to the disadvantage of the endangered species which is the subject of this permit, and (3) is consistent with the purposes and policies set forth in section 2 of the ESA.

Documents may be reviewed in the following locations:

Permits, Conservation and Education Division, Office of Protected Resources, NMFS, 1315 East-West Highway, Room 13705, Silver Spring, MD 20910; phone (301) 713-2289; fax (301) 713-0376;

Assistant Regional Administrator for Protected Resources, Northwest Region, NMFS, 7600 Sand Point Way NE, BIN C15700, Bldg. 1, Seattle, WA 98115-0700; phone (206) 526-6150; fax (206) 526-6426;

Assistant Regional Administrator for Protected Resources, Alaska Region, NMFS, PO Box 21668, Juneau, AK 99802-1668; phone (907) 586-7235; fax (907) 586-7012;

Assistant Regional Administrator for Protected Resources, Southwest Region, NMFS, 501 West Ocean Blvd., Suite 4200, Long Beach, CA 90802-4213; phone (562) 980-4020; fax (562) 980-4027;

Coordinator, Pacific Islands Area Office, NMFS, 1601 Kapiolani Blvd., Suite 1110, Honolulu, HI 96814-4700; phone (808) 973-2935; fax (808) 973-2941;

Assistant Regional Administrator for Protected Resources, Northeast Region, NMFS, One Blackburn Drive, Gloucester, MA 01930-2298; phone (508) 281-9346; fax (508) 281-9371; and

Assistant Regional Administrator for Protected Resources, Southeast Region, NMFS, 9721 Executive Center Drive North, St. Petersburg, FL 33702-2432; phone (813) 570-5301; fax (813) 570-5517.

Dated: February 21, 2003.
Stephen L. Leathery,
Chief, Permits, Conservation and Education Division, Office of Protected Resources, National Marine Fisheries Service.

[FR Doc. 03-4687 Filed 2-27-03; 8:45 am]

BILLING CODE 3510-22-S